DEPARTMENT OF THE TREASURY

Internal Revenue Service

26 CFR Part 1

[TD 9549]

RIN 1545-BH28

Implementation of Form 990; Correction

AGENCY: Internal Revenue Service (IRS), Treasury.

ACTION: Correcting amendment.

SUMMARY: This document describes a correcting amendment to final regulations (TD 9549) that implement the redesigned Form 990, “Return of Organization Exempt From Income Tax”. These regulations were published in the Federal Register on Thursday, September 8, 2011 (76 FR 55746).

DATES: This correction is effective on October 6, 2011, and is applicable on September 8, 2011.

FOR FURTHER INFORMATION CONTACT: Terri Harris, (202) 622-6070 (not a toll-free number).

SUPPLEMENTARY INFORMATION:

Background

The final regulations that are the subject of this correction are under sections 170A, 507, 509, 6033 and 6043 of the Internal Revenue Code.

Need for Correction

As published, final regulations (TD 9549) contain an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805. * * *

Par. 2. Section 1.509(a)-3 is amended by revising paragraph (n)(3) to read as follows:

§ 1.509(a)-3 Broadly, publicly supported organizations.

* * * * *

(n) * * *

(3) An organization that fails to meet a public support test for its first taxable year beginning on or after January 1, 2008, under the regulations in this section may use the prior test set forth in §§ 1.509(a)-3(a)(2) and 1.509(a)-3(a)(3) or § 1.170A-9(e)(2) or § 1.170A-9(e)(3) as in effect before September 9, 2008, (as contained in 26 CFR part 1 revised April 1, 2008) to determine whether the organization may be publicly supported for its 2008 taxable year based on its satisfaction of a public support test for taxable year 2007, computed over the period 2003 through 2006.

* * * * *

LaNita Van Dyke,
Chief, Publications and Regulations Branch, Legal Processing Division, Associate Chief Counsel (Procedure and Administration).

[FR Doc. 2011-25773 Filed 10-5-11; 8:45 am]

BILLING CODE 4830-01-P